SMALL BUSINESS ADMINISTRATION

[License No. 04/04-0308]

Plexus Fund II, L.P.; Notice Seeking Exemption Under Section 312 of the Small Business Investment Act, Conflicts of Interest

Notice is hereby given that Plexus Fund II, L.P., 200 Providence Road, Suite 210, Charlotte, NC, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Plexus II, L.P., proposes to provide debt security financing to Project Empire, Inc., 420 3rd Ave., NW., Hickory, NC 28601. The financing is contemplated for growth and general corporate purposes.

The financing is brought within the purview of § 107.730(a)(4) of the Regulations because Plexus Fund II, L.P.'s financing will discharge an obligation of Web Products, LLC, owed to Plexus Fund I, L.P., which is considered an Associate of Plexus Fund II, L.P., as defined in Sec. 105.50 of the regulations.

Notice is hereby given that any interested person may submit written comments on the transaction to the Associate Administrator for Investment, U.S. Small Business Administration, 409 Third Street, SW., Washington, DC 20416.

Dated: September 20, 2011.
Sean J. Greene,
Associate Administrator for Investment.

[FR Doc. 2011-24799 Filed 9-26-11; 8:45 am]

BILLING CODE 8025-01-P